DEPARTMENT OF AGRICULTURE

Agricultural Marketing Service

[Docket # AMS-FV-08-0007; FV08-378]

Notice of Request for a New Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget (OMB) for a new information collection survey of customers, related to the delivery of services by AMS under the Perishable Agricultural Commodities Act, 1930, as amended (PACA). This voluntary survey would give customers of the PACA program an opportunity to provide feedback to AMS on the quality of the service they receive via the PACA Customer Service Line. It would also give them an opportunity to indicate what new PACA services, if any, that they would like to receive.

DATES: Comments received by May 20, 2008 will be considered.

ADDRESSES: You may submit written or electronic comments to:

(1) PACA Customer Service Line Comments, AMS, F&V Programs, PACA Branch, 1400 Independence Avenue, SW., Room 2095-S, Stop 0242, Washington, DC 20250-0242.

(2) Fax: 202-690-4413.

(3) E-mail comments to dexter.thomas@usda.gov.

(4) Internet: http://www.regulations.gov.

Instructions: All comments will become a matter of public record and should be identified as PACA Customer Service Line Comments. Comments will be available for public inspection from AMS at the above address or over the AMS Web site at www.ams.usda.gov/fv. Web site questions can be addressed to the PACA Webmaster, dexter.thomas@usda.gov.

SUPPLEMENTARY INFORMATION: The Perishable Agricultural Commodities Act (PACA or Act) establishes a code of fair trade practices covering the marketing of fresh and frozen fruits and vegetables in interstate and foreign commerce. The PACA protects growers, shippers, distributors, and retailers dealing in those commodities by prohibiting unfair and fraudulent trade practices. In this way, the law fosters an efficient nationwide distribution system for fresh and frozen fruits and vegetables, benefiting the whole marketing chain from farmer to consumer. AMS administers and enforces the PACA.

The law provides a forum for resolving contract disputes, and a mechanism for the collection of damages from any licensee (or one subject to license) who fails to meet contractual obligations. In addition, the PACA provides for prompt payment to fruit and vegetable sellers and for revocation of licenses and sanctions against firms or principals found to have violated the law's standards of fair business practices. The PACA also imposes a statutory trust that attaches to perishable agricultural commodities received by regulated entities, products derived from the commodities, and any receivables or proceeds from the sale of the commodities. The trust exists for the benefit of produce suppliers, sellers, or agents that have not been paid, and continues until they have been paid in full.

The PACA is enforced and financed through a licensing system. All commission merchants, dealers, and brokers engaged in business subject to the PACA must be licensed; however, growers that sell produce of their own raising only are not required to obtain a license. Those who engage in practices prohibited by the PACA may have their licenses suspended or revoked.

There are approximately 14,500 firms licensed under the PACA to operate in the produce industry. These customers are located nationwide and include fruit and vegetable growers, dealers, brokers and commission merchants who buy, sell, and negotiate to buy or sell fresh and frozen fruits and vegetables in interstate and/or foreign commerce. These customers may request services from the PACA Branch's headquarters and/or field offices.

To better facilitate the delivery of services to the fruit and vegetable industry, AMS in early Fiscal Year 2007 launched the PACA Branch's Customer Service Line, a fast and easy way for fruit and vegetable industry members to get answers to their questions on a wide range of PACA related issues. The customer service line provides callers with immediate access to experts who can offer advice on a variety of PACA topics including contract disputes, interpretation of inspection reports, guidance regarding a good delivery issue, and license information.

The goal of AMS and the PACA Branch is to provide timely, high quality, accurate, consistent, and professional service that facilitates fair trading practices in the marketing of fresh and frozen fruits and vegetables in interstate and foreign commerce. To accomplish this goal and in accordance with Executive Order 12862, AMS is seeking feedback from customers to evaluate the services provided by the PACA Customer Service Line.

Title: PACA Customer Service Line User Survey.

OMB Number: 0581-NEW.

Type of Request: New information collection.

Abstract: The collection of information using a voluntary customer service survey will provide AMS' PACA customers with an opportunity to evaluate, on a scale of one to five, the timeliness, cost-effectiveness, accuracy, consistency, and usefulness of services and results, and the professionalism of PACA Branch employees. Customers will also have an opportunity to indicate what new or existing services they would use if such services were offered or available.

AMS needs to have a more formal means of determining customers' expectations of the quality of service delivered by the PACA program. To collect this information, AMS proposes to randomly conduct, over a 3-year period, a voluntary customer survey. The survey instrument will consist of up to nine questions. The survey instrument may be changed during the 3-year period in response to information gathered from survey participants. The information collected from the survey will allow AMS to determine customers' satisfaction with existing PACA services, compare results from year to year, and determine what new services customers' desire.

Examples of the type of feedback that will be asked for on the survey include the following: “I found the PACA Customer Service Line recording easy to use and follow;” “PACA personnel are courteous and professional;” and “PACA personnel were helpful.” Most survey questions will be assessed using a one to five rating scale with responses ranging from “very dissatisfied” to “very satisfied” or “no opinion.” Some survey questions may be in the form of “yes” or “no” questions. Customers may also be asked to provide a response to the following question: “Do you have any further comments or suggestions concerning the PACA Customer Service Line or other aspects of PACA customer service?”

By obtaining information from customers through a voluntary customer service survey, AMS will continue to improve services and service delivery provided by the PACA program to meet or exceed customer expectations.

We estimate the paperwork and time burden of the above referenced information collection to be as follows:

Estimate of Burden: Public reporting burden for this collection of information is estimated to average 5 minutes (i.e., 0.083 hours) per response.

Respondents: The primary respondents will be both licensed and unlicensed PACA customers that call the toll-free PACA Customer Service Line-fruit and vegetable growers, commission merchants, dealers, and brokers.

FY 2009—Estimated Number of Respondents: 240 (i.e., 10% of 200 × 12 = 240—the average number of monthly customers using the Customer Service Line).

Frequency of Responses: 1.

FY 2010—Estimated Number of Respondents: 240 (i.e., 10% of 200 × 12 = 240—the average number of monthly customers using the Customer Service Line).

Frequency of Responses: 1.

FY 2011—Estimated Number of Respondents: 240 (i.e., 10% of 200 × 12 = 240—the average number of monthly customers using the Customer Service Line).

Frequency of Responses: 1.

Estimated Annual Burden: 19.92 hours (240 times 0.083 hours/response = 19.92 hours).

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: March 17, 2008.
Lloyd C. Day,
Administrator, Agricultural Marketing Service.

[FR Doc. E8-5749 Filed 3-20-08; 8:45 am]

BILLING CODE 3410-02-P